DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from March 16, to March 20, 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: April 29, 2009.
J. Paul Loether,
Chief, National Register of Historic Places/National Historic Landmarks Program.

KEY: State, County, Property Name, Address/Boundary, City, Vicinity, Reference Number, Action, Date, Multiple Name

CALIFORNIA

Los Angeles County

Angelus Funeral Home, 1010 E. Jefferson Blvd., Los Angeles, 09000146, LISTED, 3/17/09 (African Americans in Los Angeles)

Fire Station No. 14, 3401 S. Central Ave., Los Angeles, 09000147, LISTED, 3/17/09 (African Americans in Los Angeles)

Fire Station No. 30—Engine Company No. 30, 1401 S. Central Ave., Los Angeles, 09000148, LISTED, 3/17/09 (African Americans in Los Angeles)

Lincoln Theater, 2300 S. Central Ave., Los Angeles, 09000149, LISTED, 3/17/09 (African Americans in Los Angeles)

Prince Hall Masonic Temple, 1050 E. 50th St., Los Angeles, 09000150, LISTED, 3/17/09 (African Americans in Los Angeles)

Second Baptist Church, 1100 E. 24th St., Los Angeles, 09000151, LISTED, 3/17/09 (African Americans in Los Angeles)

Twenty-eighth Street YMCA, 1006 E. 28th St., Los Angeles, 09000145, LISTED, 3/17/09 (African Americans in Los Angeles)

CONNECTICUT

Hartford County

Commercial Trust Company Building, 51-55 W. Main St., New Britain, 99000926, LISTED, 3/17/09

DISTRICT OF COLUMBIA

District Of Columbia State Equivalent

Simpson, Billy, House of Seafood and Steaks, 3815 Georgia Ave., NW., Washington DC, 09000152, LISTED, 3/17/09

IOWA

Hardin County

Folkert Mound Group, Address Restricted, Steamboat Rock vicinity, 09000126, LISTED, 3/17/09

Johnson County

Wetherby, Isaac A., House, 611 N. Governor, Iowa City, 09000127, LISTED, 3/17/09

MICHIGAN

Genesee County

Hotel Durant, 607 E. 2nd Ave., Flint, 09000128, LISTED, 3/17/09

Oakland County

O'Dell, H. Augustus and Agnes Cleveland, House—Inch House, 1945 Tiverton Rd., Bloomfield Hills, 09000129, LISTED, 3/17/09

Shiawassee County

Durand High School, 100 W. Sycamore St., Durand, 09000130, LISTED, 3/17/09

MISSISSIPPI

Coahoma County

Woolworth Building, 207 Yazoo Ave., Clarksdale, 09000110, LISTED, 3/19/09

NEBRASKA

Douglas County

Federal Office Building, 106 S. 15th St., Omaha, 09000131, LISTED, 3/17/09

RHODE ISLAND

Providence County

Taft, Moses, House, 111 E. Wallum Lake Rd., Burrillville, 08000718, LISTED, 3/20/09

TENNESSEE

Lawrence County

Garrett House, 205 S. Military Ave., Lawrenceburg, 09000137, LISTED, 3/17/09

TEXAS

Comal County

Faust Street Bridge, Connecting Faust and Porter Streets at the Guadalupe River, New Braunfels, 09000138, LISTED, 3/17/09 (Historic Bridges of Texas MPS)

Johnson County

Wright Building, 1 E. James St., Cleburne, 09000139, LISTED, 3/17/09

McLennan County

Waco High School, 815 Columbus, Waco, 09000140, LISTED, 3/17/09

VIRGINIA

Winchester Independent City

Mount Hebron Cemetery and Gatehouse, 305 E. Boscawen St., Winchester, 09000163, LISTED, 3/20/09

[FR Doc. E9-10165 Filed 5-1-09; 8:45 am]

BILLING CODE P